DEPARTMENT OF TRANSPORTATION

Federal Aviation Administration

[Docket No.: FAA-2018-0877]

FAA Order 2150.3C, Compliance and Enforcement Program

AGENCY: Federal Aviation Administration (FAA), DOT.

ACTION: Notice of availability of revised agency order.

SUMMARY: This notice announces the availability of FAA Order 2150.3C, Compliance and Enforcement Program. The order contains the policies and procedures relevant to the Federal Aviation Administration's compliance and enforcement program. The order applies to the compliance and enforcement programs and activities of all FAA offices that have statutory and regulatory compliance and enforcement responsibilities. It includes policies and procedures the FAA has developed since the last comprehensive revision of the order in 2007. Expired and out-of-date policies and procedures have been removed. FAA Order 2150.3C provides a written statement of the Administrator's policy guidance for imposing sanctions for violations of statutory and regulatory requirements.

DATES: The new policies and procedures in FAA Order 2150.3C became effective on September 18, 2018.

FOR FURTHER INFORMATION CONTACT: James Barry, Office of the Chief Counsel, Enforcement Division, AGC-300, Federal Aviation Administration, 800 Independence Avenue SW, Washington, DC 20591; 202-267-8198, james.barry@faa.gov.

SUPPLEMENTARY INFORMATION: The sanction guidance in FAA Order 2150.3C applies to violations occurring on or after September 18, 2018. For violations occurring before September 18, 2018, FAA enforcement personnel apply the sanction policy guidance in FAA Order 2150.3B. FAA Order 2150.3C may be found at https://www.faa.gov/regulations_policies/orders_notices/index.cfm/go/document.information/documentID/1034329.

Issued in Washington, DC, on September 20, 2018.
Naomi Tsuda,
Assistant Chief Counsel for Enforcement.

[FR Doc. 2018-20987 Filed 9-26-18; 8:45 am]

BILLING CODE 4910-13-P